DEPARTMENT OF TRANSPORTATION

Federal Aviation Administration

Notice of Intent To Rule on Application (02-02-U-00-HGR) To Use a Passenger Facility Charge (PFC) at Hagerstown Regional Airport—Richard A. Henson Field, Hagerstown, MD

AGENCY: Federal Aviation Administration (FAA), DOT.

ACTION: Notice of intent to rule on application.

SUMMARY: The FAA proposes to rule and invites public comment on the application to impose and use a passenger facility charge (PFC) at Hagerstown Regional Airport—Richard A. Henson Field under the provisions of the Aviation Safety and Capacity Expansion Act of 1990 (Title IX of the Omnibus Budget Reconciliation Act of 1990) (Pub. L. 101-508) and part 158 of the Federal Aviation Regulations (14 CFR part 158).

DATES: Comments must be received on or before February 11, 2002.

ADDRESSES: Comments on this application may be mailed or delivered in triplicate to the FAA at the following address: Arthur Winder, Project Manager, Washington Airports District Office, 23723 Air Freight Lane, Suite 210, Dulles, VA 22016.

In addition, one copy of any comments submitted to the FAA must be mailed or delivered to Carolyn S. Motz, Airport Manager, Board of County Commissioners of Washington County, Maryland at the following address: Hagerstown Regional Airport—Richard A. Henson Field, 18434 Showalter Road, Hagerstown, Maryland 21742-1347.

Air carriers and foreign air carriers may submit copies of written comments previously provided to the Board of County Commissioners of Washington County, Maryland under § 158.23 of part 158.

FOR FURTHER INFORMATION CONTACT: Arthur Winder, Project Manager, Washington Airports District Office, 23723 Air Freight Lane, Suite 210, Dulles, VA 22016, (703) 661-1363. The application may be reviewed in person at this same location.

SUPPLEMENTARY INFORMATION: The FAA proposes to rule and invites public comment on the application to impose and use a PFC at Hagerstown Regional Airport—Richard A. Henson Field under the provisions of the Aviation Safety and Capacity Expansion Act of 1990 (Title IX of the Omnibus Budget Reconciliation Act of 1990) (Pub. L. 101-508) and part 158 of the Federal Aviation Regulations (14 CFR part 158).

On January 28, 1999, the FAA determined that the application to impose and use a PFC submitted by the Board of County Commissioners of Washington County, Maryland was substantially complete within the requirements of § 158.25 of part 158. The FAA will approve or disapprove the application, in whole or in part, no later than April 30, 1999.

The following is a brief overview of the application.

PFC Application No.: 02-02-U-00-HGR.

Level of the proposed PFC: $4.50.

Proposed charge effective date: January 1, 2002.

Proposed charge expiration date: July 8, 2003.

Total estimated PFC revenue: $206,000.

Brief description of proposed project(s):

—Construct Snow and Equipment Maintenance Building.

Class or classes of air carriers which the public agency has requested not be required to collect PFCs: Nonscheduled/On-Demand Air Carrier filing FAA Form 1800-31.

Any person may inspect the application in person at the FAA office listed above under FOR FURTHER INFORMATION CONTACT and at the FAA regional Airports Office located at: Federal Aviation Administration, Airports Division, AEA-610, 1 Aviation Plaza, Jamaica, NY 11434-4809.

In addition, any person may, upon request, inspect the application, notice and other documents germane to the application in person at the Hagerstown Regional Airport—Richard A. Henson Field.

Issued in Dulles, VA 22016, January 3, 2002.
Terry J. Page,
Manager, Washington Airports District Office.

[FR Doc. 02-654 Filed 1-9-02; 8:45 am]

BILLING CODE 4910-13-M